DEPARTMENT OF ENERGY

Federal Energy Regulatory Commission

[Docket No. RP03-604-000]

LSP—Cottage Grove, L.P., LSP—Whitewater, Limited Partnership v. Northern Natural Gas Company; Notice of Complaint

September 25, 2003.

Take notice that on September 12, 2003, LSP—Cottage Grove, L.P. (Cottage Grove) and LSP—Whitewater, Limited Partnership (Whitewater) filed with the Federal Energy Regulatory Commission (Commission) a Compliant Requesting Fast-Track Processing pursuant to Rule 206 of the Commission's Rules of Practice and Procedure, 18 CFR 385.206. The Complaint requests that the Commission grant relief in a billing dispute with Northern Natural Gas Company. Cottage Grove and Whitewater request confidential treatment of certain information in the complaint and the supporting appendices and attachment.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866)208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: October 15, 2003.

Linda Mitry,
Acting Secretary.

[FR Doc. 03-24890 Filed 10-1-03; 8:45 am]

BILLING CODE 6717-01-P